DEPARTMENT OF TRANSPORTATION

Federal Aviation Administration

14 CFR Part 39

[Docket No. 99-SW-86-AD; Amendment 39-11737; AD 2000-10-13]

RIN 2120-AA64

Airworthiness Directives; Eurocopter France Model SA-365N, SA-365N1, AS-365N2 and AS-365N3 Helicopters

AGENCY: Federal Aviation Administration, DOT.

ACTION: Final rule; request for comments.

SUMMARY: This amendment adopts a new airworthiness directive (AD) applicable to Eurocopter France Model SA-365N, SA-365N1, AS-365N2 and AS-365N3 helicopters. This action requires inspecting the installation of each window panel on the enlarged sliding door (door). If any window panel is installed on the outside of the door, this AD requires installing and sealing the window panel on the inside. This amendment is prompted by the loss of a window panel in flight that was incorrectly sealed with the window installed on the outside of the door. This condition, if not corrected, could result in loss of a window panel in flight. The actions specified in this AD are intended to prevent loss of a window panel, impact with a main rotor blade, and subsequent loss of control of the helicopter.

DATES: Effective June 6. 2000.

Comments for inclusion in the Rules Docket must be received on or before July 21, 2000.

ADDRESSES: Submit comments in triplicate to the Federal Aviation Administration (FAA), Office of the Regional Counsel, Southwest Region, Attention: Rules Docket No. 99-SW-86-AD, 2601 Meacham Blvd., Room 663, Fort Worth, Texas 76137. You may also send comments electronically to the Rules Docket at the following address: 9-asw-adcomments@faa.gov.

FOR FURTHER INFORMATION CONTACT: Jim Grigg, Aviation Safety Engineer, FAA, Rotorcraft Directorate, Regulations Group, Fort Worth, Texas 76193-0111, telephone (817) 222-5490, fax (817) 222-5961.

SUPPLEMENTARY INFORMATION: The Direction Generale De L'Aviation Civile (DGAC), the airworthiness authority for France, notified the FAA that an unsafe condition may exist on Eurocopter France Model SA-365N, SA-365N1, AS-365N2 and AS-365N3 helicopters. The DGAC advises of the need to visually inspect each window for correct mounting to prevent loss of a window in flight, impact with a main rotor blade, and subsequent loss of control of the helicopter.

Eurocopter France has issued Telex Information No. 00097, dated November 9, 1999 (Telex). The Telex advises of the loss of a window panel in flight due to the window panel being sealed and positioned on the outside of the door. The Telex specifies visually inspecting the installation of each window panel and resuming flight if the window panels are inside the door. If the window panels are outside the door, the Telex specifies repositioning and resealing the window panels inside the door. The DGAC classified this Telex as mandatory and issued AD 1999-459-049(A), dated December 1, 1999, to ensure the continued airworthiness of these helicopters in France.

These helicopter models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of these type designs that are certificated for operation in the United States.

Since an unsafe condition has been identified that is likely to exist or develop on other Eurocopter France Model SA-365N, SA-365N1, AS-365N2 and AS-365N3 helicopters of the same type designs registered in the United States, this AD is being issued to prevent loss of a window panel, impact with a main rotor blade, and subsequent loss of control of the helicopter. This AD requires visually inspecting each window panel for correct installation on the door. If the window panel is installed properly, no further action is required by this AD. If any window panel is installed outside the door, this AD also requires, before further flight, removing, installing inside the door, and resealing the window panel. The short compliance time involved is required because the previously described critical unsafe condition can adversely affect the structural integrity of the helicopter. Therefore, visually inspecting each window panel for correct installation on the door is required within 10 hours time-in-service and this AD must be issued immediately.

Since a situation exists that requires the immediate adoption of this regulation, it is found that notice and opportunity for prior public comment hereon are impracticable and that good cause exists for making this amendment effective in less than 30 days.

The FAA estimates that 60 helicopters will be affected by this AD, that it will take approximately 0.25 work hour to accomplish the inspection and that the average labor rate is $60 per work hour. Based on these figures and assuming 10 windows are affected at $10 each for the seal and 1 hour to reinstall each window, the total cost impact of the AD on U.S. operators is estimated to be $1,600.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 99-SW-86-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

AD 2000-10-13 Eurocopter France: Amendment 39-11737. Docket No. 99-SW-86-AD.

Applicability: Model SA-365N, SA-365N1, AS-365N2, and AS-365N3 helicopters, with enlarged sliding doors, part number (P/N) 365A82-1142-0051, 0054, 0153, or 0154, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required within 10 hours time-in-service (TIS), unless accomplished previously.

To prevent loss of a window panel, impact with a main rotor blade, and subsequent loss of control of the helicopter, accomplish the following:

(a) Visually inspect each window panel in any enlarged sliding door (door) for correct positioning on the inside of the door. See Figure 1.

(1) If the window panel is installed on the inside of the door, no further action is required by this AD.

(2) If a window is installed on the outside, before further flight, remove the window and reinstall using a new seal.

Note 2: The following optional procedure may be used to remove and reinstall a window, however, any procedure that results in the installation of a properly sealed airworthy window panel on the inside of the door is acceptable:

a. From inside the door, cut the seal (see Figure 1, item 3). Push the window out and remove remnants of the seal from the window panel and door structure.

b. Remove all traces of the sealing compound (see Figure 1, item 4) with methyl ethyl ketone (MEK), acetone, or equivalent.

c. Thoroughly dust the grooves of a new seal with talcum powder.

d. Fit the new seal to the window panel. The joint will be located in the lower center of the window panel. The clearance between the seal and the window panel should not exceed 0.04 inch.

e. Insert a 0.01-inch diameter cord (ripcord works well) into the seal slot. Position the cord such that the cord ends are on the top center of the panel).

f. Press the window panel and seal assembly against the door from the inside.

g. Gently pull outward on the cord ends, allowing the outer edge of the seal to pull over the door structure. Continue pulling cord around the window panel until complete.

h. Apply PR1222 sealant between the seal and the door structure. Wipe off any excess sealant.

Note 3: Eurocopter Telex No. 00097, dated November 9, 1999, pertains to this AD.

BILLING CODE 4910-13-U

BILLING CODE 4910-13-C

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 4: Information concerning the existence of approved alternative methods of compliance with this AD, if any, may be obtained from the Regulations Group.

(c) Special flight permits may be issued in accordance with sections 21.197 and 21.199 of the Federal Aviation Regulations (14 CFR 21.197 and 21.199) to operate the helicopter to a location where the requirements of this AD can be accomplished.

(d) This amendment becomes effective on June 6, 2000.

Note 5: The subject of this AD is addressed in The Direction Generale De L'Aviation Civile (France) AD 1999-459-049(A), dated December 1, 1999.

Issued in Fort Worth, Texas, on May 15, 2000.
Henry A. Armstrong,
Manager, Rotorcraft Directorate, Aircraft Certification Service.

[FR Doc. 00-12817 Filed 5-19-00; 8:45 am]

BILLING CODE 4910-13-U